DEPARTMENT OF HOMELAND SECURITY

Coast Guard

[Docket No. USCG-2011-1156]

Draft Change to Navigation and Inspection Circular 01-13, Inspection and Certification of Vessels Under the Maritime Security Program

AGENCY: Coast Guard, DHS.

ACTION: Notice of availability with request for comments.

SUMMARY: The Coast Guard announces the availability of a draft change to Navigation and Inspection Circular (NVIC) 01-13, Inspection and Certification of Vessels Under the Maritime Security Program (MSP). The MSP serves as a means for establishing a fleet of commercially viable and militarily useful vessels to meet national defense as well as other security requirements. NVIC 01-13 provides guidance to assist vessel owners/operators, Authorized Classification Societies, and Coast Guard personnel with the inspection and certification of vessels under the MSP. This draft change clarifies the process for the issuance of the Certificate of Documentation (COD) to the vessel during the reflag process, adds a note to the equivalency provisions for inspection of MSP vessels subsequent to initial certification, clarifies the trial period requirements for automated systems in machinery spaces, includes interim provisions for those vessels seeking to operate with minimally attended or periodically unattended machinery spaces, and makes other non-technical changes to NVIC 01-13. This notice solicits public comment on the impact of the draft change to NVIC 01-13 on applicable vessels and other affected parties.

DATES: Comments and related material must either be submitted to the online docket via http://www.regulations.gov or reach the Docket Management Facility, on or before August 18, 2014. Documents discussed in this notice should be available in the online docket within three business days of today's publication.

ADDRESSES: Submit comments using one of the listed methods, and see SUPPLEMENTARY INFORMATION for more information on public comments.

• Online—http:www.regulations.gov following Web site instructions.

• Fax—202-493-2251.

• Mail or hand deliver—Docket Management Facility (M-30), U.S. Department of Transportation, West Building Ground Floor, Room W12-140, 1200 New Jersey Avenue SE., Washington, DC 20590-0001. Hours for hand delivery are 9 a.m. to 5 p.m., Monday through Friday, except Federal holidays (telephone 202-366-9329).

FOR FURTHER INFORMATION CONTACT: For information about this document, call or email Lieutenant Corydon Heard, Office of Commercial Vessel Compliance (CG-CVC), U.S. Coast Guard; telephone 202-372-1208, email Corydon.F.Heard@uscg.mil. For information about viewing or submitting material to the docket, call Cheryl Collins, Program Manager, Docket Operations, telephone 202-366-9826, toll free 1-800-647-5527.

SUPPLEMENTARY INFORMATION:

Public Participation and Comments

We encourage you to submit comments (or related material) on the draft change to NVIC 01-13. We will consider all submissions and may adjust our final action based on your comments. Comments should be marked with docket number USCG-2011-1156 and should provide a reason for each suggestion or recommendation. You should provide personal contact information so that we can contact you if we have questions regarding your comments; but please note that all comments will be posted to the online docket without change and that any personal information you include can be searchable online (see the Federal Register Privacy Act notice regarding our public dockets, 73 FR 3316, January 17, 2008).

Mailed or hand-delivered comments should be in an unbound 8½ x 11 inch format suitable for reproduction. The Docket Management Facility will acknowledge receipt of mailed comments if you enclose a stamped, self-addressed postcard or envelope with your submission.

Documents mentioned in this notice, and all public comments, are in our online docket at http://www.regulations.gov and can be viewed by following the Web site's instructions. You can also view the docket at the Docket Management Facility (see the mailing address under ADDRESSES) between 9 a.m. and 5 p.m., Monday through Friday, except Federal holidays.

NVIC 01-13 provides uniform process guidance to assist vessel owners/operators, Authorized Classification Societies, and Coast Guard personnel regarding the MSP. Vessels that meet MSP eligibility criteria may obtain a Certificate Of Inspection (COI) by following the procedures and guidelines detailed in NVIC 01-13. NVIC 01-13 was first published in February 2013. As part of the first annual review, the Coast Guard has considered policy guidance enhancements in order to better facilitate the transition of vessels to U.S. registry under the MSP. This notice announces a change that would clarify trial period requirements for automated systems in machinery spaces, include interim provisions for those vessels seeking to operate with minimally attended or periodically unattended machinery spaces, and make other non-technical changes to NVIC 01-13.

Specifically, this draft change to NVIC 01-13 clarifies the process for the issuance of the Certificate of Documentation (COD) to the vessel during the reflag process, adds a note to the equivalency provisions for inspection of MSP vessels subsequent to initial certification, clarifies the trial period requirements for automated systems in machinery spaces, and includes interim provisions for those vessels seeking to operate with minimally attended or periodically unattended machinery spaces (MAMS/PUMS), which do not otherwise meet the requirements of 46 CFR 62.50-20 and/or 62.50-30 (as appropriate).

We request comments from all interested parties on this draft change to NVIC 01-13. The Coast Guard will consider all comments on this draft change before issuing an updated version of NVIC 01-13.

This notice is issued under authority of 5 U.S.C. 552(a).

Dated: June 11, 2014.
Jonathan C. Burton,
Captain, U.S. Coast Guard, Director, Inspections and Compliance.

[FR Doc. 2014-14403 Filed 6-18-14; 8:45 am]

BILLING CODE 9110-04-P